NUCLEAR REGULATORY COMMISSION

[Docket No. 70-7005]

Consideration of an Exemption From Requirements of 10 CFR Part 70 for Waste Control Specialist LLC

AGENCY: Nuclear Regulatory Commission.

ACTION: Consideration of an exemption.

SUMMARY: The U.S. Nuclear Regulatory Commission (NRC or the Commission) is considering issuance of an Order pursuant to section 274f of the Atomic Energy Act that would exempt Waste Control Specialist LLC (WCS) from certain NRC regulations. WCS requested this exemption in a letter dated September 25, 2000. The proposed exemption would allow WCS, under specified conditions, to possess waste containing special nuclear material (SNM), in greater mass quantities than specified in 10 CFR part 150, at WCS's facility located in Andrews County, Texas, without obtaining an NRC license pursuant to 10 CFR part 70. NRC issued a similar Order to Envirocare of Utah, Inc. in May of 1999. During the issuance of that Order, the Commission indicated that staff should consider similar requests from others prior to exploring rulemaking in this area (SRM-SECY-98-226).

SUPPLEMENTARY INFORMATION: The WCS facility is approximately 1200 acres in size and is located in western Texas, approximately 32 miles west of Andrews, Texas. WCS is licensed by the State of Texas Department of Health to treat and temporarily store low-level radioactive waste. WCS is also licensed by the Texas Natural Resource Conservation Commission and the U.S. Environmental Protection Agency to dispose of hazardous waste. The hazardous waste activities at the site are not subject to the Order currently under consideration.

Prior to the issuance of the Order, NRC will have made findings required by the Atomic Energy Act of 1954, as amended, and NRC's regulations. These findings will be documented in a Safety Evaluation Report and an Environmental Assessment.

FOR FURTHER INFORMATION CONTACT: Timothy E. Harris, Environmental and Performance Assessment Branch, Division of Waste Management, Office of Nuclear Material Safety and Safeguards, U.S. Nuclear Regulatory Commission, Washington, DC 20555-0001. Telephone: (301) 415-6613. Fax.: (301) 415-5397.

Dated at Rockville, Maryland, this 7th day of November 2000.
For the Nuclear Regulatory Commission.
Thomas H. Essig,
Chief, Environmental and Performance Assessment Branch, Division of Waste Management, Office of Nuclear Material Safety and Safeguards.

[FR Doc. 00-29725 Filed 11-20-00; 8:45 am]

BILLING CODE 7590-01-P